DEPARTMENT OF LABOR

Employment and Training Administration

Notice of Determinations Regarding Eligibility To Apply for Worker Adjustment Assistance and Alternative Trade Adjustment Assistance

In accordance with Section 223 of the Trade Act of 1974, as amended (19 U.S.C. 2273) the Department of Labor herein presents summaries of determinations regarding eligibility to apply for trade adjustment assistance for workers (TA-W) number and alternative trade adjustment assistance (ATAA) by (TA-W) number issued during the period of November 26 through November 30, 2007.

In order for an affirmative determination to be made for workers of a primary firm and a certification issued regarding eligibility to apply for worker adjustment assistance, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of Section 222(a)(2)(A) (increased imports) of the Trade Act have been met.

TA-W-62,404; Motor Wheel Commercial Vehicle Systems, Full Cast—Assembly Area, Berea, KY: October 28, 2006.

TA-W-62,171; Everett Charles Technologies, Clifton Park, NY: September 11, 2006

The following certifications have been issued. The requirements of Section 222(a)(2)(B) (shift in production) of the Trade Act have been met.

TA-W-62,373; Mahle Industries, Inc., Holland, MI: October 24, 2006

The following certifications have been issued. The requirements of Section 222(b) (supplier to a firm whose workers are certified eligible to apply for TAA) of the Trade Act have been met.

NONE

The following certifications have been issued. The requirements of Section 222(b) (downstream producer for a firm whose workers are certified eligible to apply for TAA based on increased imports from or a shift in production to Mexico or Canada) of the Trade Act have been met.

NONE

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-W-62,242; Weyerhaeuser Company, Veneer Technologies, Elma, WA: October 1, 2006

TA-W-62,337; Robert Bosch Corporation, Automotive Chassie Division, St. Joseph, MI: June 9, 2007

TA-W-62,436; Council Company, LLC, Plant #1, On-Site Leased Workers of Stewart Staffing, Denton, NC: November 7, 2006

TA-W-62,445; Samson Manufacturing Co., A Division of S Lichtenberg and Company, Inc., Waynesboro, GA: December 20, 2007

TA-W-62,451; Hickory Dyeing and Winding Co., Inc., On-Site Leased Workers from Foothills Staffing, Hickory, NC: November 9, 2006

TA-W-62,263; W. B. Marvin Manufacturing Co., Urbana, OH: September 28, 2006

TA-W-62,297; Delphi Corporation, Electronics and Safety Division, Oak Creek, WI: October 10, 2006.

TA-W-62,399; Wausau Paper, Printing and Writing LLC, Groveton, NH: October 31, 2006

The following certifications have been issued. The requirements of Section 222(a)(2)(B) (shift in production) and Section 246(a)(3)(A)(ii) of the Trade Act have been met.

TA-W-62,350; Hewlett Packard Company, Inkjet Supplies Business, Leased Workers of Technical Aid, dba TAC World Co., Boise, ID: September 24, 2007

TA-W-62,372; Tree Island Fastener, Division of Tree Island Industries, On-Site Leased Workers of Express Temporary, Ferndale, WA: October 22, 2006

TA-W-62,382; Milsco Manufacturing Company, A Unit of Jason, Inc., Milwaukee, WI: October 25, 2006

TA-W-62,446; VF Jeanswear Service Support Center, 1421 South Elm Street, Greensboro, NC: December 16, 2007

TA-W-62,323; Teradyne, Inc., Operations Division of Semi-Conductor Test Division/Leased Workers DCI Corp., North Reading, MA: October 17, 2006

TA-W-62,434; Arrow Home Fashions, Anaheim, CA: November 6, 2006

TA-W-62,461; Universal Tire Mold, Inc., A Subsidiary of Saehwa, Inc., Corinth Division, Corinth, MS: November 13, 2006

The following certifications have been issued. The requirements of Section 222(b) (supplier to a firm whose workers are certified eligible to apply for TAA) and Section 246(a)(3)(A)(ii) of the Trade Act have been met.

TA-W-62,410; Small-Pak Chemicals, Inc., Pineville, NC: November 2, 2006

The following certifications have been issued. The requirements of Section 222(b) (downstream producer for a firm whose workers are certified eligible to apply for TAA based on increased imports from or a shift in production to Mexico or Canada) and Section 246(a)(3)(A)(ii) of the Trade Act have been met.

NONE

Negative Determinations for Alternative Trade Adjustment Assistance

In the following cases, it has been determined that the requirements of 246(a)(3)(A)(ii) have not been met for the reasons specified.

The Department has determined that criterion (1) of Section 246 has not been met. The firm does not have a significant number of workers 50 years of age or older.

TA-W-62,171; Everett Charles Technologies, Clifton Park, NY

The Department has determined that criterion (2) of Section 246 has not been met. Workers at the firm possess skills that are easily transferable.

TA-W-62,404; Motor Wheel Commercial Vehicle Systems, Full Cast—Assembly Area, Berea, KY

TA-W-62,373; Mahle Industries, Inc., Holland, MI.

The Department has determined that criterion (3) of Section 246 has not been met. Competition conditions within the workers' industry are not adverse.

NONE

Negative Determinations for Worker Adjustment Assistance and Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

TA-W-62,365; West Point Home, Inc., Bed Division, Biddeford, ME.

TA-W-62,440; Evergy, Inc., Vitrus Division, Pawtucket, RI

The investigation revealed that criteria (a)(2)(A)(I.B.) (Sales or production, or both, did not decline) and (a)(2)(B)(II.B.) (shift in production to a foreign country) have not been met.

TA-W-62,390; Erdman Furniture Group, Techline USA Division, Waunakee, WI

The investigation revealed that criteria (a)(2)(A)(I.C.) (increased imports) and (a)(2)(B)(II.B.) (shift in production to a foreign country) have not been met.

TA-W-62,134; Mohawk ESV., Inc., Home Division, Hiawassee, GA.

TA-W-62,158; Intel Corporation, Fab 11 Plant Division, Rio Rancho, NM.

TA-W-62,189; Diaz Intermediates Corporation, West Memphis, AR.

TA-W-62,207; Diaz Intermediates Corporation, Brockport, NY.

TA-W-62,442; Infinite Graphics, Inc., Minneapolis, MN.

The workers' firm does not produce an article as required for certification under Section 222 of the Trade Act of 1974.

TA-W-62,160; Dataproducts USA LLC, A Division of Clover Holdings, Inc., Calexico, CA.

TA-W-62,357; WestPoint Home, Inc., Stores Division, Valley, AL.

TA-W-62,357A; WestPoint Home, Inc., Stores Division, Albertville, MN.

TA-W-62,357AA; WestPoint Home, Inc., Stores Division, Valdosta, GA.

TA-W-62,357B; WestPoint Home, Inc., Stores Division, Allen, TX.

TA-W-62,357BB; WestPoint Home, Inc., Stores Division, Williamsburg, VA.

TA-W-62,357C; WestPoint Home, Inc., Stores Division, Birch Run, MI.

TA-W-62,357CC; WestPoint Home, Inc., Stores Division, Wrentham, MA.

TA-W-62,357D; WestPoint Home, Inc., Stores Division, Birmingham, AL.

TA-W-62,357E; WestPoint Home, Inc., Stores Division, Boaz, AL.

TA-W-62,357F; WestPoint Home, Inc., Stores Division, Burlington, NC.

TA-W-62,357G; WestPoint Home, Inc., Stores Division, Cabazon, CA.

TA-W-62,357H; WestPoint Home, Inc., Stores Division, Clinton, CT.

TA-W-62,357I; WestPoint Home, Inc., Stores Division, Columbus, GA.

TA-W-62,357J; WestPoint Home, Inc., Stores Division, Commerce, GA.

TA-W-62,357K; WestPoint Home, Inc., Stores Division, Dalton, GA.

TA-W-62,357L; WestPoint Home, Inc., Stores Division, Dawsonville, GA.

TA-W-62,357M; WestPoint Home, Inc., Stores Division, Destin, FL.

TA-W-62,357N; WestPoint Home, Inc., Stores Division, Edinburgh, IN.

TA-W-62,357O; WestPoint Home, Inc., Stores Division, Ellenton, FL.

TA-W-62,357P; WestPoint Home, Inc., Stores Division, Fairburn, GA.

TA-W-62,357Q; WestPoint Home, Inc., Stores Division, Foley, AL.

TA-W-62,357R; WestPoint Home, Inc., Stores Division, Howell, MI.

TA-W-62,357S; WestPoint Home, Inc., Stores Division, Lamarque, TX.

TA-W-62,357T; WestPoint Home, Inc., Stores Division, Lumberton, NC.

TA-W-62,357U; WestPoint Home, Inc., Stores Division, New Braunfels, TX.

TA-W-62,357V; WestPoint Home, Inc., Stores Division, Park City, UT.

TA-W-62,357W; WestPoint Home, Inc., Stores Division, Pigeon Forge, TN.

TA-W-62,357X; WestPoint Home, Inc., Stores Division, San Marcos, TX.

TA-W-62,357Y; WestPoint Home, Inc., Stores Division, Sarasota, FL.

TA-W-62,357Z; WestPoint Home, Inc., Stores Division, St. Augustine, FL.

TA-W-62,403; Quality Industrial Services, Inc., Madisonville, KY.

TA-W-62,437; Mirador International, LLC, High Point, NC.

TA-W-62,478; Option One Mortgage Corporation, A Subsidiary of H and R Block, East Providence, RI

The investigation revealed that criteria of Section 222(b)(2) has not been met. The workers' firm (or subdivision) is not a supplier to or a downstream producer for a firm whose workers were certified eligible to apply for TAA.

NONE

I hereby certify that the aforementioned determinations were issued during the period of November 26 through November 30, 2007. Copies of these determinations are available for inspection in Room C-5311, U.S. Department of Labor, 200 Constitution Avenue, NW., Washington, DC 20210 during normal business hours or will be mailed to persons who write to the above address.

Dated: November 5, 2007.
Ralph Dibattista,
Director, Division of Trade Adjustment Assistance.

[FR Doc. E7-23910 Filed 12-10-07; 8:45 am]

BILLING CODE 4510-FN-P